NUCLEAR REGULATORY COMMISSION

[Docket No. 52-017]

Virginia Electric and Power Company, D/B/A Dominion Virginia Power, and Old Dominion Electric Cooperative; Notice of Availability of the Draft Supplemental Environmental Impact Statement and Public Meeting for North Anna Power Station Unit 3 Combined License Application

Notice is hereby given that the U.S. Nuclear Regulatory Commission (NRC, Commission) has published a draft Supplemental Environmental Impact Statement (SEIS), NUREG-1917, for the North Anna Unit 3 Combined License (COL) and is making it available for comment. This document is a supplement to the Environmental Impact Statement for an Early Site Permit (ESP) at the North Anna ESP site, NUREG-1811, dated December 2006. The North Anna site is located near the Town of Mineral in Louisa County, Virginia on the southern shore of Lake Anna.

Virginia Electric and Power Company, doing business as Dominion Virginia Power, and Old Dominion Electric Cooperative, collectively referred to as Dominion, submitted an application on November 27, 2007, for a COL at its North Anna Power Station (North Anna). A COL is an authorization to construct and (with specified conditions) operate a nuclear power plant at a specific site, in accordance with established laws and regulations. In November 2007, the NRC issued ESP-003 to Dominion Nuclear North Anna, LLC, for the North Anna ESP Site (the site of proposed Unit 3). An ESP is an NRC approval of a site as suitable for construction and operation of one or more new nuclear units. The application for a COL for North Anna Unit 3 submitted by Dominion references the ESP for the North Anna ESP site, ESP-003.

Pursuant to NRC regulations in 10 CFR 51.50(c)(1), a COL applicant referencing an ESP need not submit information or analyses regarding environmental issues that were resolved in the ESP EIS, except to the extent the COL applicant has identified new and significant information regarding such issues; pursuant to 10 CFR 52.39, matters resolved in the ESP proceedings are considered to be resolved in any subsequent proceedings, absent identification of new and significant information. Upon receipt of a COL application that references an ESP, the NRC staff, pursuant to 10 CFR 51.75(c), prepares a supplement to the ESP EIS in accordance with 10 CFR 51.92(e). Accordingly, this notice is to inform the public that the NRC staff has prepared a supplement to NUREG-1811, the ESP EIS (NUREG-1917), which is in support of the review of the COL application for North Anna Unit 3 at the North Anna ESP site described in ESP-003 referenced in the COL application, and to provide the public an opportunity to comment.

The draft SEIS, NUREG-1917, for the North Anna, Unit 3 COL is available for public inspection at the NRC Public Document Room (PDR), located at One White Flint North, 11555 Rockville Pike (first floor), Rockville, Maryland, or from the Publicly Available Records component of the NRC's Agency-wide Documents Access and Management System (ADAMS). ADAMS is accessible at http://www.nrc.gov/reading-rm/adams.html, which provides access through the NRC's Electronic Reading Room link. The accession number in ADAMS for the draft SEIS, NUREG-1917, is ML083380360.

Persons who do not have access to ADAMS or who encounter problems in accessing the documents located in ADAMS should contact the NRC's PDR Reference staff at 1-800-397-4209 or 301-415-4737, or by sending an e-mail to pdr.resource@nrc.gov. The draft SEIS may also be viewed on the Internet at: http://www.nrc.gov/reactors/new-reactors/col/north-anna.html. In addition, the Jefferson-Madison Regional Library in Mineral, Virginia; Hanover Branch Library in Hanover, Virginia; Orange County Library in Orange, Virginia; Salem Church Library in Fredericksburg, Virginia; and C. Melvin Snow Memorial Branch Library in Spotsylvania, Virginia have agreed to make the draft SEIS available for public inspection.

The staff will hold a public meeting to present an overview of the draft SEIS, NUREG-1917, and to accept public comments. The public meeting will be held in the Auditorium at the Louisa County High School, 757 Davis Highway, Mineral, Virginia, on Tuesday, February 3, 2009. The meeting will convene at 6 p.m. and will continue until 10 p.m., as necessary. The meeting will be transcribed and will include: (1) A presentation of the contents of the draft SEIS, and (2) the opportunity for interested government agencies, organizations, and individuals to provide comments on the draft report. Additionally, the NRC will host informal discussions one hour before the start of the meeting. No formal comments on the draft SEIS will be accepted during the informal discussions. To be considered, comments must be provided either at the transcribed public meeting or in writing. Persons may register to attend or present oral comments at the meeting by contacting Ms. Alicia Williamson, by telephone at 1-800-368-5642, extension 1878, or by Internet to the NRC at: NORTHANNA.COLAEIS@nrc.gov, no later than January 28, 2009.

Members of the public may also register to speak at the meeting within 15 minutes of the start of the meeting. Individual oral comments may be limited by the time available, depending on the number of persons who register. Members of the public who have not registered may also have an opportunity to speak, if time permits. Ms. Williamson will need to be contacted, if special equipment or accommodations are needed to attend or present information at the public meeting, no later than January 23, 2009 so that the NRC staff can determine whether the request can be accommodated.

Any interested party may submit comments on the draft SEIS for consideration by the NRC staff. Comments may be accompanied by additional relevant information or supporting data. This draft report is being issued with a 75-day comment period. The comment period begins on the date that the U.S. Environmental Protection Agency publishes a Notice of Filing in the Federal Register which is expected to be December 29, 2008; such Notices are published every Friday. The Notice will identify end dates of the comment period.

Members of the public may send written comments on the draft SEIS for the North Anna COL, Unit 3 to the Chief, Rulemaking Directives and Editing Branch, Division of Administrative Services, Office of Administration, Mailstop TWB-05-B01M, U.S. Nuclear Regulatory Commission, Washington, DC 20555-0001 and should cite the publication date and page number of this Federal Register Notice. Electronic comments may be sent via the Internet to the NRC at NORTHANNA.COLAEIS@nrc.gov. To ensure that comments will be considered, comments should be received by the end of the comment period, which is March 16, 2009. Written comments should be postmarked by March 16, 2009. Electronic Submissions should be sent no later than March 16, 2009.

FOR FURTHER INFORMATION CONTACT: Ms. Alicia Williamson, Environmental Project Manager, at U.S. Nuclear Regulatory Commission, Mailstop T6-D32, Washington, DC 20555-0001, or by phone at (301) 415-1878 or via e-mail at Alicia.Williamson@nrc.gov.

Dated at Rockville, Maryland, this 16th day of December 2008.
For the U.S. Nuclear Regulatory Commission.
Scott Flanders,
Director, Division of Site and Environmental Reviews Office of New Reactors.

[FR Doc. E8-30643 Filed 12-23-08; 8:45 am]

BILLING CODE 7590-01-P